DEPARTMENT OF THE INTERIOR

Fish and Wildlife Service

[FWS-R7-NWRS-2020-N158; FF07R08000F-XRS-1263-0700000-201; OMB Control Number 1018-0141]

Agency Information Collection Activities; Submission to the Office of Management and Budget for Review and Approval; Alaska Guide Service Evaluation

AGENCY: Fish and Wildlife Service, Interior.

ACTION: Notice of information collection; request for comment.

SUMMARY: In accordance with the Paperwork Reduction Act of 1995, we, the U.S. Fish and Wildlife Service (Service), are proposing to renew an information collection.

DATES: Interested persons are invited to submit comments on or before January 21, 2021.

ADDRESSES: Written comments and recommendations for the proposed information collection should be sent within 30 days of publication of this notice to www.reginfo.gov/public/do/PRAMain. Find this particular information collection by selecting “Currently under Review—Open for Public Comments” or by using the search function. Please provide a copy of your comments to the Service Information Collection Clearance Officer, U.S. Fish and Wildlife Service, MS: PRB/PERMA (JAO/3W), 5275 Leesburg Pike, Falls Church, VA 22041-3803 (mail); or by email to Info_Coll@fws.gov. Please reference OMB Control Number 1018-0141 in the subject line of your comments.

FOR FURTHER INFORMATION CONTACT: Madonna L. Baucum, Service Information Collection Clearance Officer, by email at Info_Coll@fws.gov, or by telephone at (703) 358-2503. Individuals who are hearing or speech impaired may call the Federal Relay Service at 1-800-877-8339 for TTY assistance. You may also view the information collection request (ICR) at http://www.reginfo.gov/public/do/PRAMain.

SUPPLEMENTARY INFORMATION: In accordance with the Paperwork Reduction Act of 1995 (PRA, 44 U.S.C. 3501 et seq.) and 5 CFR 1320.8(d)(1), we provide the general public and other Federal agencies with an opportunity to comment on new, proposed, revised, and continuing collections of information. This helps us assess the impact of our information collection requirements and minimize the public's reporting burden. It also helps the public understand our information collection requirements and provide the requested data in the desired format.

On August 26, 2020, we published in the Federal Register (85 FR 52631) a notice of our intent to request that OMB approve this information collection. In that notice, we solicited comments for 60 days, ending on October 26, 2020. We received no comments in response to that notice.

As part of our continuing effort to reduce paperwork and respondent burdens, we are again soliciting comments from the public and other Federal agencies on the proposed information collection request (ICR) that is described below. We are especially interested in public comment addressing the following:

(1) Whether or not the collection of information is necessary for the proper performance of the functions of the agency, including whether or not the information will have practical utility;

(2) The accuracy of our estimate of the burden for this collection of information, including the validity of the methodology and assumptions used;

(3) Ways to enhance the quality, utility, and clarity of the information to be collected; and

(4) How might the agency minimize the burden of the collection of information on those who are to respond, including through the use of appropriate automated, electronic, mechanical, or other technological collection techniques or other forms of information technology, e.g., permitting electronic submission of response.

Comments that you submit in response to this notice are a matter of public record. Before including your address, phone number, email address, or other personal identifying information in your comment, you should be aware that your entire comment—including your personal identifying information—may be made publicly available at any time. While you can ask us in your comment to withhold your personal identifying information from public review, we cannot guarantee that we will be able to do so.

Abstract: We collect information via FWS Form 3-2349 (Alaska Guide Service Evaluation) to help us evaluate commercial guide services on our national wildlife refuges in the State of Alaska (State). The National Wildlife Refuge Administration Act of 1966, as amended (16 U.S.C. 668dd-ee), authorizes us to permit uses, including commercial visitor services, on national wildlife refuges when we find the activity to be compatible with the purposes for which the refuge was established. With the objective of making available a variety of quality visitor services for wildlife-dependent recreation on National Wildlife Refuge System lands, we issue permits for commercial guide services, including big game hunting, sport fishing, wildlife viewing, river trips, and other guided activities. We use FWS Form 3-2349 as a method to:

• Monitor the quality of services provided by commercial guides.

• Gauge client satisfaction with the services.

• Assess the impacts of the activity on refuge resources.

The client is the best source of information on the quality of commercial guiding services. We collect:

• Client name.

• Guide name(s).

• Type of guided activity.

• Dates and location of guided activity.

• Information on the services received, such as the client's expectations, safety, environmental impacts, and client's overall satisfaction.

We encourage respondents to provide any additional comments that they wish regarding the guide service or refuge experience, and ask whether or not they wish to be contacted for additional information.

The above information, in combination with State-required guide activity reports and contacts with guides and clients in the field, provides a comprehensive method for monitoring permitted commercial guide activities. A regular program of client evaluation helps refuge managers detect potential problems with guide services so that we can take corrective actions promptly. In addition, we use this information during the competitive selection process for big game and sport fishing guide permits to evaluate an applicant's ability to provide a quality guiding service.

The Service is actively reviewing the current evaluation form to identify ways to improve the information collected to:

• Provide more quantifiable and defensible data;

• Provide statistical data for each completed and submitted form;

• Provide more quantifiable rather than qualitative information; and

• Translate the client responses into useful information, in order for refuge management to make informed decisions.

The Service initially planned to submit the new form (tentatively assigned FWS Form 3-2538, “Alaska Guide Service Evaluation”) to OMB for approval to conduct usability testing under OMB Control No. 1090-0011, “DOI Generic Clearance for the Collection of Qualitative Feedback on Agency Service Delivery,” in time to pretest it during the 2020 Alaska guide season. However, the pandemic significantly limited the number of guide trips during the 2020 guide season, necessitating the usability testing be conducted during the 2021 Alaska guide season (and possibly the 2022 season). At the conclusion of the usability testing, the Service will evaluate all feedback of the new evaluation form to determine whether additional updates need to be made to it. At that time, we will begin the process to initiate a revision to this information collection by publishing the required notices in the Federal Register announcing to the public our intention to submit the final evaluation form to OMB for approval prior to the calendar year 2023 Alaska guide season. In addition, the Service will provide the Alaska National Interest Lands Conservation Act (ANILCA) Coordinator for the State of Alaska with a copy of the proposed new guide form for review/comment.

Title of Collection: Alaska Guide Service Evaluation.

OMB Control Number: 1018-0141.

Form Number: FWS Form 3-2349.

Type of Review: Extension of a currently approved collection.

Respondents/Affected Public: Clients of permitted commercial guide service providers.

Total Estimated Number of Annual Respondents: 264.

Total Estimated Number of Annual Responses: 264.

Estimated Completion Time per Response: 15 minutes.

Total Estimated Number of Annual Burden Hours: 66.

Respondent's Obligation: Voluntary.

Frequency of Collection: One time, following use of commercial guide services.

Total Estimated Annual Nonhour Burden Cost: None.

An agency may not conduct or sponsor and a person is not required to respond to a collection of information unless it displays a currently valid OMB control number.

The authority for this action is the Paperwork Reduction Act of 1995 (44 U.S.C. 3501 et seq.).

Dated: December 17, 2020.
Madonna Baucum,
Information Collection Clearance Officer, U.S. Fish and Wildlife Service.

[FR Doc. 2020-28260 Filed 12-21-20; 8:45 am]

BILLING CODE 4333-15-P